NATIONAL AERONAUTICS AND SPACE ADMINISTRATION

[Notice: (23-113)]

National Space Council Users' Advisory Group; Meeting

AGENCY: National Aeronautics and Space Administration (NASA).

ACTION: Notice of meeting.

SUMMARY: In accordance with the Federal Advisory Committee Act, NASA announces a meeting of the National Space Council Users' Advisory Group (UAG).

DATES: Friday, December 1, 2023, from 11:00 a.m.-2:00 p.m., Eastern Time.

ADDRESSES: Virtual meeting via dial-in teleconference and WebEx only.

Virtual Access via Internet and Phone: Access information links for both virtual video and audio lines will be posted in advance at the following UAG website: https://www.nasa.gov/usersadvisorygroup/.

FOR FURTHER INFORMATION CONTACT: Mr. James Joseph Miller, UAG Designated Federal Officer and Executive Secretary, Space Operations Mission Directorate, NASA Headquarters, Washington, DC 20546, (202) 262-0929 or jj.miller@nasa.gov.

The agenda for the meeting will include the following:

• Introduction by UAG Chair, General Lester Lyles (USAF, Ret.)

• Opening Remarks

• Expert Presentations

• Report from UAG Subcommittee Chairs:

—Exploration and Discovery

—Economic Development and Industrial Base

—Climate and Societal Benefits

—Data and Emerging Technology

—STEM Education, Diversity and Inclusion

—National Security

• Deliberations on Proposed Findings and Recommendations

• Next Steps

For further information about membership and a detailed agenda, visit the UAG website at: https://www.nasa.gov/usersadvisorygroup/.

Patricia Rausch,
Advisory Committee Management Officer, National Aeronautics and Space Administration.

[FR Doc. 2023-24814 Filed 11-8-23; 8:45 am]

BILLING CODE 7510-13-P